DEPARTMENT OF THE TREASURY

Submission for OMB Review; Comment Request

July 2, 2002.

The Department of Treasury has submitted the following public information collection requirement(s) to OMB for review and clearance under the Paperwork Reduction Act of 1995, Public law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220

Dates: Written comments should be received on or before August 12, 2002. to be assured of consideration

Internal Revenue Service (IRS)

OMB Number: 1545-1779.

Notice Number: Notice 2002-27.

Type of Review: Extension.

Title: IRA Required Minimum Distribution Reporting.

Description: This notice provides guidance with respect to the reporting requirements, that is, data that custodians and trustees of IRAs must furnish IRS owners in those instances where there must be a minimum distribution from an individual retirement arrangement.

Respondents: Business or other for-profit, Not-for-profit institutions.

Estimated Number of Respondents: 78,000.

Estimated Burden Hours Per Respondent: 15 hours.

Frequency of Response: Annually, Other (one per IRA).

Estimated Total Reporting Burden: 1,170,000 hours.

Clearance Officer: Glenn Kirkland (202) 622-3428, Internal Revenue Service, Room 6411-03, 1111 Constitution Avenue, NW., Washington, DC 20224.

OMB Reviewer: Joseph F. Lackey, Jr., (202) 395-7316, Office of Management and Budget, Room 10235, New Executive Office Building, Washington, DC 20503.

Lois K. Holland,
Departmental Reports, Management Officer.

[FR Doc. 02-17491 Filed 7-11-02; 8:45 am]

BILLING CODE 4830-01-M